DEPARTMENT OF DEFENSE

Office of the Secretary

[DOD-2007-OS-0019]

Privacy Act of 1974; System of Records

AGENCY: Office of the Secretary, DoD.

ACTION: Notice to add a system of records.

SUMMARY: The Office of the Secretary of Defense proposes to add a system of records to its inventory of record systems subject to the Privacy Act of 1974 (5 U.S.C. 552a), as amended.

DATES: The changes will be effective on April 6, 2007 unless comments are received that would result in a contrary determination.

ADDRESSES: Send comments to OSD Privacy Act Coordinator, Records Management Section, Washington Headquarters Services, 1155 Defense Pentagon, Washington, DC 20301-1155.

FOR FURTHER INFORMATION CONTACT: Ms. Juanita Irvin at (703) 696-4940.

SUPPLEMENTARY INFORMATION: The Office of the Secretary of Defense notices for systems of records subject to the Privacy Act of 1974 (5 U.S.C. 552a), as amended, have been published in the Federal Register and are available from the address above.

The proposed systems reports, as required by 5 U.S.C. 552a(r) of the Privacy Act of 1974, as amended, were submitted on February 26, 2007, to the House Committee on Government Reform, the Senate Committee on Homeland Security and Governmental Affairs, and the Office of Management and Budget (OMB) pursuant to paragraph 4c of Appendix I to OMB Circular No. A-130, ‘Federal Agency Responsibilities for Maintaining Records About Individuals,’ dated February 8, 1996 (February 20, 1996, 61 FR 6427).

Dated: February 28, 2007.
C.R. Choate,
Alternate OSD Federal Register Liaison Officer, Department of Defense.

DHA 16 DoD

System name:

Special Needs Program Management Information System (SNPMIS) Records.

System location:

Defense Medical Logistics Standard Support (DMLSS) Program Office, Six Skyline Place, 5109 Leesburg Pike, Suite 908, Falls Church, VA 22041-3215.

Categories of individuals covered by the system:

Children of members of the Armed Forces and civilians who are entitled to receive early intervention and special education services from the Department of Defense under the Individuals with Disabilities Education Act (IDEA).

Categories of records in the system:

Name; Social Security Number; family member prefix (FMP); date of birth; sponsor data include name and Social Security Number; sponsor and spouse rank or title, and sponsor's unit; phone numbers of the child's and parents' home, work; and school address; other child care locations and provider's name and title that evaluate and provide intervention; clinics and medical summaries; individual educational program plans; Educational and Developmental Intervention Services process and activities data include referral; evaluation; eligibility; and service plans. Service data includes documentation of service activities.

Authority for maintenance of the system:

Public Law 95-561, Defense Dependents Education Act of 1978; Public Law 105-85 (DoD FY 1998 Authorization Act) Section 108 and 765; Deputy Secretary of Defense Memorandum, “Accelerated Implementation of Migrations Systems, Data Standards, and Process Improvement” 13 October 1993; 10 U.S.C. 136, Under Secretary of Defense for Personnel and Readiness 20 U.S.C Chapter 33, Education Of Individuals With Disabilities; 20 U.S.C. Sections 921 and 1400, Individuals with Disabilities Education Improvement Act of 2004; DoD Instruction 1342.12, Provision of Early Intervention and Special Education Services to Eligible DoD Dependents; DoD 8000.1, Defense Information Management Program; and E.O. 9397 (SSN).

Purpose(s):

To document the treatment and activities of the Special Needs and Educational and Developmental Intervention Services (EDIS) procedures as they pertain to special educational and/or medical needs of children and family members; to perform outreach and prevention activities; to conduct assessment and survey activities; to compile database for statistical analysis, tracking, and reporting; evaluate program effectiveness; and to conduct research.

Routine uses of records maintained in the system, including categories of users and the purposes of such uses:

In addition to those disclosures generally permitted under the 5 U.S.C. 552a(b) of the Privacy Act, records of information contained therein are not disclosed outside the DoD as a routine use pursuant to 5 U.S.C. 552a(b)(3) of the Privacy Act.

To the Joint Commission on Accreditation of Healthcare Organizations (JCAHO) during an on-site survey for the purpose of achieving accreditations for compliance with certain standards and accreditation requirements.

The DoD ‘Blanket Routine Uses’ set forth at the beginning of the OSD's compilation of systems of records notices apply to this system.

Note: This system of records contains individually identifiable health information. The DoD Health Information Privacy Regulation (DoD 6025.18-R) issued pursuant to the Health Insurance Portability and Accountability Act of 1996, applies to most such health information. DoD 6025.18-R may place additional procedural requirements on the uses and disclosures of such information beyond those found in the Privacy Act of 1974 or mentioned in this system of records notice.

Policies and practices for storing, retrieving, accessing, retaining, and disposing of records in the system:

Storage:

Records in file folders and on electronic storage media.

Retrievability:

Records may be retrieved by patient name, sponsor's Social Security Number, Family Member Prefix, and provider's name.

Safeguards:

Records are maintained in a secure, limited access, or monitored area. Physical entry by unauthorized persons is restricted by the use of locks, guards, or administrative procedures. Access to personal information is limited to those who require the records to perform their official duties. All personnel whose official duties require access to the information are trained in the proper safeguarding and use of the information.

Retention and disposal:

Disposition pending (treat records as permanent until the National Archives and Records Administration have approved the retention and disposition schedule).

System manager(s) and address:

Military Health Systems/Program Executive, Defense Medical Logistics Standard Support Program Office, Six Skyline Place, 5109 Leesburg Pike, Suite 908, Falls Church, VA 22041-3215.

Notification procedure:

Individuals seeking to determine whether information about themselves is contained in this system of records should address inquires to Educational and Developmental Intervention Services clinics or Medical Records Department of the participating Medical Treatment Facility where the child's service was provided.

Requests should contain individual's full name, individual's Family Member Prefix, and individual's sponsor's SSN.

Requests for a list of participating Educational and Developmental Intervention Services clinics can be obtained by addressing written inquires to Military Health System/Program Executive, Defense Medical Logistics Standard Support Program Office, 5109 Leesburg Pike, Suite 908, Falls Church, VA 22041-3201.

Record access procedures:

Individuals seeking access to information about themselves contained in this system of records should address written inquiries to Educational and Developmental Intervention Services clinics or Medical Records Department of the participating Medical Treatment Facility where the child service was provided.

Requests should contain the child's full name, family member prefix, and the sponsor's SSN.

Requests for a list of participating Educational and Developmental Intervention Services clinics can be obtained by addressing written inquires to Military Health System/Program Executive, Defense Medical Logistics Standard Support Program Office, 5109 Leesburg Pike, Suite 908, Falls Church, VA 22041-3201.

Contesting record procedures:

The OSD rules for accessing records, for contesting contents and appealing initial agency determinations are published in OSD Administrative Instruction 81; 32 CFR part 311; or may be obtained from the system manager.

Record source categories:

Individual to whom the record pertains; reports from physicians and other medical department personnel; reports and information from other sources including educational institutions; medical institutions; public and private health; and welfare agencies.

Exemptions claimed for the system:

None.

[FR Doc. E7-4025 Filed 3-6-07; 8:45 am]

BILLING CODE 5001-06-P